NATIONAL CREDIT UNION ADMINISTRATION

Sunshine Act Meeting

TIME AND DATE: 1:30 p.m., Friday, November 1, 2013.

PLACE: Board Room, 7th Floor, Room 7047, 1775 Duke Street, Alexandria, VA 22314-3428.

STATUS: Closed.

Pursuant to the provisions of the “Government in Sunshine Act,” notice is hereby given that the NCUA Board unanimously determined that agency business required holding a closed meeting with less than seven days' notice to the public, and that no earlier notice of the meeting was possible.

MATTERS TO BE CONSIDERED: 1. Consideration of Supervisory Activities. Closed pursuant to Exemptions (5), (7), (8) and (9)(ii).

FOR FURTHER INFORMATION CONTACT: Gerard Poliquin, Secretary of the Board, Telephone: 703-518-6304.

Gerard Poliquin,
Secretary of the Board.

[FR Doc. 2013-26367 Filed 10-30-13; 4:15 pm]

BILLING CODE 7535-01-P